NUCLEAR REGULATORY COMMISSION

Sunshine Act Meeting

Agency Holding the Meeting: Nuclear Regulatory Commission.

Date: Weeks of March 18, 25, April 1, 8, 15, 22, 2002.

Place: Commissioners' Conference Room, 11555 Rockville Pike, Rockville, Maryland.

Status: Public and closed.

Matters To Be Considered

Week of March 18, 2002

Tuesday, March 19, 2002

9:30 a.m.—Briefing on Office of Nuclear Regulatory Research (RES) Programs, Performance, and Plans (Public Meeting) (Contact: James Johnson, 301-415-6802).

This meeting will be webcast live at the Web address— www.nrc.gov.

Wednesday, March 20, 2002

9:25 a.m.—Affirmation Session (Public Meeting), (If needed).

9:30 a.m.—Meeting with Advisory Committee on Nuclear Waste (ACNW) (Public Meeting) (Contact: John Larkins, 301-415-7360).

This meeting will be webcast live at the Web address— www.nrc.gov.

Week of March 25, 2002—Tentative

Monday March 25, 2002

1:00 p.m.—Discussion of Intergovernmental Issues (Closed).

Week of April 1, 2002—Tentative

There are no meetings scheduled for the Week of April 1, 2002.

Week of April 8, 2002—Tentative

Friday, April 12, 2002

9:25 a.m.—Affirmation Session (Public Meeting), (If needed).

Week of April 15, 2002—Tentative

There are no meetings scheduled for the Week of April 15, 2002.

Week of April 22, 2002—Tentative

There are no meetings scheduled for the Week of April 22, 2002.

______

*The schedule for Commission meetings is subject to change on short notice. To verify the status of meetings call (recording)—(301) 415-1292. Contact person for more information: David Louis Gamberoni (301) 415-1651.

* * * * *

Additional Information

By a vote of 5-0 on March 7, the Commission determined pursuant to U.S.C. 552b(e) and § 9.107(a) of the Commission's rules that “Affirmation of a) Duke Cogema Stone & Webster (Savannah River Mixed Oxide Fuel Fabrication Facility); Georgians Against Nuclear Energy's Petition for Interlocutory Review and Request for Stay Pending Review and b) Private Fuel Storage (Independent Spent Fuel Storage Installation) Docket No. 72-22-ISFSI; Review of LBP-02-08 (February 22, 2002)” be held on March 7, and on less than one week's notice to the public.

* * * * *

The NRC Commission Meeting Schedule can be found on the Internet at: www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: March 14, 2002.
David Louis Gamberoni,
Technical Coordinator, Office of the Secretary.

[FR Doc. 02-6655 Filed 3-15-02; 10:48 am]

BILLING CODE 7590-01-M